DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with Statutory Import Programs Staff, U.S. Department of Commerce, Room 2104, 14th and Constitution Ave., Washington, D.C. 20230. Applications may be examined between 8:30 A.M. and 5:00 P.M. in Room 2104, U.S. Department of Commerce.

Docket Number: 07-047. Applicant: University of Southern California, University Park, Los Angeles, CA 90089. Instrument: Electron Microscope, Model JEM-1400. Manufacturer: JEOL, Ltd., Japan. Intended Use: The instrument is intended to be used to decipher local structural organization in cells and tissues, to visualize the shapes of proteins as they undergo conformational reorganization into elongated amyloid fibrils and other spherical structures and to investigate other larger molecular nano- particles. Application accepted by Commissioner of Customs: June 18, 2007.

Docket Number: 07-050. Applicant: University of Massachusetts Medical School, 55 Lake Avenue North Worcester, MA 01655. Instrument: Electron Microscope, Model Quanta 200 FEG . Manufacturer: FEI Company, Czech Republic Intended Use: The instrument is intended to be used to study the distribution of cilia on cell surfaces, the structure of bone cells in healthy and diseased bone, the structure of fly antennae in flies with mutations homologous to human disease mutations, the structure of mouse embryos, the means of entry of pathogens into cells and the distribution of cell surface receptors involved in the immune response and various other biological issues. Application accepted by Commissioner of Customs: July 23, 2007.

Docket Number: 07-049. Applicant: Indiana University, 400 East Seventh Street, Room 404, Bloomington, IN 47405 . Instrument: Electron Microscope, Model JEM-3200FS. Manufacturer: JEOL Ltd., Japan Intended Use: The instrument is intended to be used for, among other purposes: structure/function studies of modified icosahedral virus particles with long term applications in biomedical imaging and drug delivery; real time structure determination of viruses and their assembly intermediates for creating pH sensors and finding novel targets for drug delivery; analysis of microbial biofilms and the structural and chemical analysis of nanoparticles that are used as materials science platforms. Application accepted by Commissioner of Customs: July 23, 2007.

Docket Number: 06-042. Applicant: The University of Illinois at Urbana-Champaign, 616 E. Green St., Ste. 212, Champaign, IL 61820. Instrument: electron microscope, Model JEM-2200FS. Manufacturer: JEOL, Ltd., Japan. Intended Use: The instrument is intended to be used by a centralized facility for the microanalysis of materials. Properties of materials studied include: relation of structure to catalytic activity; strain and composition distribution within the nanostructures, effects of impurities on the strength of materials, domain structure, ordering mechanisms and coherency strain effects and structural motifs of chromosome architecture and its modification. Application accepted by Commissioner of Customs: July 10, 2006.

Docket Number: 07-052. Applicant: Scripps Research Institute, 10550 North Torry Pines Road, La Jolla, CA 92307. Instrument: Electron Microscope (2), Tecnai G2 Spirit TWIN and Morgagni TEM. Manufacturer: FEI Company, Czech Republic. Intended Use: The instrument is intended to be used for structural investigations of biological macromolecular assemblies including: structure of COPII coated vesicles, molecular motors, electron dense labels for macromolecules, high resolution structures among bacteriophages, structure of the HIV capsid assembly and characterization of the chloroplast ribosome. Application accepted by Commissioner of Customs: July 31, 2007.

Faye Robinson,
Director, Statutory Import Programs Staff, Import Administration.

[FR Doc. E7-16153 Filed 8-15-07; 8:45 am]

BILLING CODE 3510-DS-S